DEPARTMENT OF HEALTH AND HUMAN SERVICES

Centers for Disease Control and Prevention

[30Day-29-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Building Capacity to Fluoridate: Key Informant Interviews to Understand Community Water Fluoridation—New—National Center for Chronic Disease Prevention and Health Promotion (NCCDPHP), Centers for Disease Control and Prevention (CDC).

Since the first fluoridation of a public water system in Grand Rapids, Michigan in 1945, fluoridation of community water supplies has dramatically reduced the prevalence of dental caries in the United States. Scientific evidence compiled over nearly six decades demonstrates that adjusting the fluoride concentration of public water systems is a safe, cost-effective, and equitable intervention that benefits everyone in a given community regardless of financial status.

The percentage of the U.S. population living in areas with fluoridated water grew steadily from 1945 to the mid-1970s. Adoption of fluoridation is ultimately a choice made by community decision makers and often is put before the public for vote as a referendum. In spite of survey findings that roughly 70 percent of the U.S. population favors fluoridation, referenda since the 1980's have often resulted in community decisions not to fluoridate. Thus, the rate of increase in access to fluoridated water among those on public water systems has slowed. In 2000, 65.8 percent of this population had access to fluoridated water, still far short of the 75 percent fluoridation target set in both the Healthy People 2000 and 2010 objectives.

The purpose of this research is to identify and describe the variables that influence community fluoridation decisions made by public vote and provide enhanced knowledge that may be useful to communities considering fluoridation.

In-person interviews will be conducted with 7 to 13 key participants in fluoridation referendum campaigns at 8 sites where fluoridation has been rejected or accepted within the last three years. Key participants in the campaigns will vary slightly by site. A total of 80 interviews will be conducted. The expected participants will include:

• State or local health department staff

• Campaign directors

• Local elected officials

• Outside political consultants

• Grassroots leaders

• Media representatives

The estimated annualized burden is 140 hours.

Respondents | Number of respondents | Number of responses per respondent | Average burden per response (in hrs.)
Respondent Screening | 43 | 1 | 10/60
Political Professionals | 16 | 1 | 100/60
Civic and Grassroots Leaders | 16 | 1 | 100/60
Media Representatives | 16 | 1 | 100/60
Health care providers | 16 | 1 | 100/60
Local Officials | 16 | 1 | 100/60

Dated: February 18, 2004.
Alvin Hall,
Director, Management Analysis and Services Office, Centers for Disease Control and Prevention.

[FR Doc. 04-4231 Filed 2-25-04; 8:45 am]

BILLING CODE 4163-18-P